DEPARTMENT OF THE TREASURY

United States Mint

Notification of 2007 American Buffalo Gold Proof One-Ounce Coin Pricing

Summary: The United States Mint is establishing prices for the 2007 American Buffalo Gold Proof One-Ounce Coin.

Pursuant to the authority that 31 U.S.C. 5111(a) and 5112(q) grant the Secretary of the Treasury to mint and issue gold coins, and to prepare and distribute numismatic items, the United States Mint will mint and issue 2007 American Buffalo Gold Proof One-Ounce Coins. In accordance with 31 U.S.C. 9701(b)(2)(B), the United States Mint is changing the price of these coins to reflect the increase in value of the precious metal content of the coins—the result of increases in the market price of gold.

Accordingly, effective upon the introduction of the 2007 American Buffalo Gold Proof One-Ounce Coin, the United States Mint will sell these coins at the following price:

Description | Price
American Buffalo Gold Proof One Ounce Coin | $825.95

For Further Information Contact: Gloria C. Eskridge, Associate Director for Sales and Marketing; United States Mint; 801 Ninth Street, NW.; Washington , DC 20220; or call 202-354-7500.

Authority: 31 U.S.C. 5111, 5112 & 9701

Dated: March 28, 2007.
Edmund C. Moy,
Director, United States Mint.

[FR Doc. E7-6112 Filed 4-2-07; 8:45 am]

BILLING CODE 4810-02-P